DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet certain administrative needs of the Bureau of Land Management. The lands we surveyed are:

The plat representing the dependent resurvey of a portion of the Boise Meridian (west boundary, Township 1 North, Range 1 East) and a portion of the subdivisional lines, and the subdivision of section 13, in T. 1 N., R. 1 W., Boise Meridian, Idaho, was accepted July 17, 2003.

The plat constituting the entire survey record of the dependent resurvey of a portion of the south boundary and of the subdivisional lines, in T. 5 S., R. 28 E., Boise Meridian, Idaho, was accepted July 31, 2003.

The plats representing the entire survey record of the dependent resurvey of portions of the east boundary, subdivisional lines, and Mineral Survey Nos. 2001 and 2411, in T. 2 N., R. 4 E., Boise Meridian, Idaho, was accepted August 13, 2003.

The plat representing the dependent resurvey of a portion of the south boundary, and a portion of the subdivisional lines, and the subdivision of sections, 26, 27, 32, 33, and 34, in T. 14 N., R. 28 E., Boise Meridian, Idaho, was accepted September 2, 2003.

The plat constituting the entire survey record of the dependent resurvey of a portion of the subdivisional lines, in T. 8 S., R. 29 E., Boise Meridian, Idaho, was accepted September 4, 2003.

These surveys were executed at the request of the Bureau of Land Management to meet certain administrative needs of the Bureau of Indian Affairs. The lands we surveyed are:

The plat representing the dependent resurvey of a portion of the north boundary, a portion of the subdivisional lines, and the subdivision of certain sections and the survey of lots 7 and 8 in section 4 and lots 1 and 2 in section 9, in T. 46 N., R. 5 W., Boise Meridian, Idaho, was accepted on August 15, 2003.

The plat representing the dependent resurvey of portions of the north boundary and subdivisional lines, the subdivision of section 5, the survey of the 2000-2002 meander lines of the right bank, an informative traverse of the left bank and the survey of the 2000-2002 median line of the South Fork of the Clearwater River in section 5, in T. 31 N., R. 4 E., Boise Meridian, Idaho, was accepted September 29, 2003.

The plat representing the dependent resurvey of a portion of the subdivisional lines and the subdivision of section 14, in T. 36 N., R. 4 W., Boise Meridian, Idaho, was accepted September 29, 2003.

The plat representing the dependent resurvey of a portion of the subdivisional lines, the adjusted 1892 meanders and the 2002-2003 survey of the meanders of the right banks of the Clearwater and North Fork of the Clearwater Rivers, the subdivision of section 33, and the survey of lot No. 9 in section 33, in T. 37 N., R. 1 E., Boise Meridian, Idaho, was accepted September 29, 2003.

Dated: October 6, 2003.
Harry K. Smith,
Chief Cadastral Surveyor for Idaho.

[FR Doc. 03-25696 Filed 10-9-03; 8:45 am]

BILLING CODE 4310-GG-P